DEPARTMENT OF TRANSPORTATION

Coast Guard

33 CFR Part 117

[CGD01-01-058]

Drawbridge Operation Regulations: Harlem River, MA

AGENCY: Coast Guard, DOT.

ACTION: Notice of temporary deviation from regulations.

SUMMARY: The Commander, First Coast Guard District, has issued a temporary deviation from the drawbridge operation regulations governing the operation of the Triborough (125 Street) Bridge, at mile 1.3, across the Harlem River in New York. This deviation allows the bridge owner to keep the bridge in the closed position from June 4, 2001 through June 24, 2001. This action is necessary to facilitate necessary maintenance at the bridge.

DATES: This deviation is effective from June 4, 2001 through June 24, 2001.

FOR FURTHER INFORMATION CONTACT: Joseph Arca, Project Officer, First Coast Guard District, at (212) 668-7165.

SUPPLEMENTARY INFORMATION: The Triborough (125 Street) Bridge, at mile 1.3, across the Harlem River, has a vertical clearance of 54 feet at mean high water, and 59 feet at mean low water in the closed position. The existing drawbridge operating regulations are listed at 33 CFR 117.789(d).

The bridge owner, the Triborough Bridge and Tunnel Authority, requested a temporary deviation from the drawbridge operating regulations to facilitate maintenance and repairs at the bridge.

This deviation from the operating regulations allows the bridge owner to keep the bridge in the closed position from June 4, 2001 through June 24, 2001.

In accordance with 33 CFR 117.35(c), this work will be performed with all due speed in order to return the bridge to normal operation as soon as possible. This deviation from the operating regulations is authorized under 33 CFR 117.35.

Dated: April 27, 2001.
G.N. Naccara,
Rear Admiral, U.S. Coast Guard, Commander, First Coast Guard District.

[FR Doc. 01-11558 Filed 5-7-01; 8:45 am]

BILLING CODE 4910-15-P